DEPARTMENT OF LABOR

Employment and Training Administration

[TA-W-85,674]

Levi Strauss & Company Eugene, Oregon; Notice of Negative Determination on Reconsideration

On March 10, 2015, the Department of Labor issued an Affirmative Determination Regarding Application for Reconsideration for the workers and former workers of Levi Strauss and Company, Eugene, Oregon. The notice was published in the Federal Register on March 31, 2015 (80 FR 17080).

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination based on findings that the worker separations at Levi Strauss & Co., Eugene, Oregon are not attributable to increased imports of articles or a shift in production of articles to a foreign country. The investigation also confirmed that the subject firm is not a Supplier or Downstream Producer.

The request for reconsideration asserts that the workers perform production forecasting activities and order management support of Levi Strauss' production of clothing and apparel. The reconsideration application concludes that both activities drive production and has been shifted to a foreign country.

Information obtained during the investigation confirmed that Levi Strauss & Co. does not produce articles within the United States. The investigation confirmed that all production of articles for the Levi Strauss & Co. brand is done by another firm not covered under the definition of a “firm” in 29 CFR 90.2.

Therefore, after careful review of the request for reconsideration, the Department determines that 29 CFR 90.18(c) has not been met.

Conclusion

After careful review, I determine that the requirements of Section 222 of the Act, 19 U.S.C. 2272, have not been met and, therefore, deny the petition for group eligibility of Levi Strauss & Company, Eugene, Oregon, to apply for adjustment assistance, in accordance with Section 223 of the Act, 19 U.S.C. 2273.

Signed in Washington, DC, on this 22nd day of April, 2015.
Michael W. Jaffe,
Certifying Officer, Office of Trade Adjustment Assistance.

[FR Doc. 2015-12884 Filed 5-27-15; 8:45 am]

BILLING CODE 4510-FN-P